DEPARTMENT OF AGRICULTURE

Forest Service

Notice of Proposed New Fee Sites; Federal Lands Recreation Enhancement Act

AGENCY: Caribou-Targhee National Forest, USDA, Forest Service.

ACTION: Notice New Fee Site.

SUMMARY: The Caribou-Targhee National Forest is proposing to begin charging fees at the Al Taylor Cabin. Facilities at the site have recently been reconstructed and amenities have been added to improve services and experiences. Fees are assessed based on the level of amenities and services provided, cost of operation and maintenance, market assessment, and public comment. Funds from fees would be used for the continued operation and maintenance of these recreation sites.

The Al Taylor cabin recently came into Forest Service ownership. It is located approximately 35 miles NE of Dubois, Idaho and 10 miles NW of Kilgore, Idaho. Access is via a gravel 2WD road. The proposed fee would be $35.00 per night and the cabin will accommodate 5-8 people.

DATES: Send any comments about these fee proposals by March 15, 2013 so comments can be compiled, analyzed and shared with a Recreation Resource Advisory Committee. New fees would begin after April 2013.

ADDRESSES: Brent Larson, Forest Supervisor, Caribou-Targhee National Forest, 1405 Hollipark Drive, Idaho Falls, Idaho 83401.

FOR FURTHER INFORMATION CONTACT: Brent Porter, Recreation Program Coordinator, (208-524-7500) or email at ctnf_fee_comments@fs.fed.us. Information about proposed fee changes can also be found on the Caribou-Targhee National Forest Web site: http://www.fs.usda.gov/main/ctnf/passes-permits/recreation.

SUPPLEMENTARY INFORMATION: The Federal Recreation Lands Enhancement Act (Title VII, Pub. L. 108-447) directed the Secretary of Agriculture to publish a six month advance notice in the Federal Register whenever new recreation fee areas are established.

Once public involvement is complete, these new fees will be reviewed by a Recreation Resource Advisory Committee prior to a final decision and implementation.

Dated: September 26, 2012.
Robbert Mickelsen,
Branch Chief.

[FR Doc. 2012-24210 Filed 10-2-12; 8:45 am]

BILLING CODE 3410-11-M